DEPARTMENT OF AGRICULTURE

Animal and Plant Health Inspection Service

[Docket No. APHIS-2010-0084]

Notice of Request for Approval of an Information Collection; National Animal Health Monitoring System; Sheep 2011 Study

AGENCY: Animal and Plant Health Inspection Service, USDA.

ACTION: New information collection; comment request.

SUMMARY: In accordance with the Paperwork Reduction Act of 1995, this notice announces the Animal and Plant Health Inspection Service’s intention to initiate an information collection to support the National Animal Health Monitoring System Sheep 2011 Study.

DATES: We will consider all comments that we receive on or before October 26, 2010.

ADDRESSES: You may submit comments by either of the following methods:

• Federal eRulemaking Portal: Go to (http://www.regulations.gov/fdmspublic/component/main?main=DocketDetail&d=APHIS-2010-0084) to submit or view comments and to view supporting and related materials available electronically.

• Postal Mail/Commercial Delivery: Please send one copy of your comment to Docket No. APHIS-2010-0084, Regulatory Analysis and Development, PPD, APHIS, Station 3A-03.8, 4700 River Road Unit 118, Riverdale, MD 20737-1238. Please state that your comment refers to Docket No. APHIS-2010-0084.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on the Sheep 2011 Study, contact Ms. Sandra Warnken, Management and Program Analyst, Centers for Epidemiology and Animal Health, VS, APHIS, 2150 Centre Avenue, Building B MS 2E3, Fort Collins, CO 80526; (970) 494-7193. For copies of more detailed information on the information collection, contact Mrs. Celeste Sickles, APHIS’ Information Collection Coordinator, at (301) 851-2908.

SUPPLEMENTARY INFORMATION: Title: National Animal Health Monitoring System; Sheep 2011 Study.

OMB Number: 0579-xxxx.

Type of Request: Approval of a new information collection.

Abstract: Under the Animal Health Protection Act (7 U.S.C. 8301 et seq.), the Animal and Plant Health Inspection Service (APHIS) of the United States Department of Agriculture (USDA) is authorized, among other things, to protect the health of our Nation’s livestock and poultry populations by preventing the introduction and interstate spread of serious diseases and pests of livestock and for eradicating such diseases from the United States when feasible. In connection with this mission, APHIS operates the National Animal Health Monitoring System (NAHMS), which collects nationally representative, statistically valid, and scientifically sound data on the prevalence and economic importance of livestock diseases and associated risk factors.

NAHMS’ national studies have evolved into a collaborative industry and government initiative to help determine the most effective means of preventing and controlling diseases of livestock. APHIS is the only agency responsible for collecting data on livestock health. Participation in any NAHMS study is voluntary, and all data are confidential.

APHIS plans to conduct the Sheep 2011 Study as part of an ongoing series of NAHMS studies on the U.S. livestock population. The 22 States targeted for the study account for 85 percent of the ewe inventory in the United States on January 1, 2010, and on 70 percent of farms in the United States with one or more ewes. The purpose of this study is to collect information, through questionnaires and biologic sampling, to:

• Describe trends in sheep health and management practices from 1996 to 2011.

• Describe management and biosecurity practices used to control common infectious diseases, including scrapie, ovine progressive pneumonia, Johne’s disease, and caseous lymphadenitis.

• Estimate the prevalence of gastrointestinal parasites and anthelmintic resistance.

• Estimate the prevalence of Mycoplasma ovipneumonia in domestic sheep flocks. Relate presence of the organism in blood and nasal secretions to clinical signs and demographic and management factors.

• Facilitate the collection of information and samples regarding causes of abortion storms in sheep.

• Determine producer awareness of the zoonotic potential of contagious ecthyma (soremouth) and the management practices used to prevent transmission of the disease.

• Provide serum to include in the serological bank for future research.

The study will consist of a series of on-farm questionnaires, with biologic sampling, that will be administered by APHIS-designated data collectors. The information collected through the Sheep 2011 Study will be analyzed and organized into descriptive reports. Information sheets will be derived from these reports, and the data will be disseminated to and used by a variety of constituents, including producers, veterinarians, stakeholders, academia, and others. The data will help APHIS address emerging issues and examine the economic impact of selected animal health management practices.

We are asking the Office of Management and Budget (OMB) to approve our use of these information collection activities for 3 years.

The purpose of this notice is to solicit comments from the public (as well as agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.8840854 hours per response.

Respondents: Sheep producers in 22 States.

Estimated annual number of respondents: 5,500.

Estimated annual number of responses per respondent: 1.7285454.

Estimated annual number of responses: 9,507.

Estimated total annual burden on respondents: 8,405 hours. (Due to averaging, the total annual burden hours may not equal the product of the annual number of responses multiplied by the reporting burden per response.)

All responses to this notice will be summarized and included in the request for OMB approval. All comments will also become a matter of public record.

Done in Washington, DC, this 23rd day of August 2010.

Gregory Parham
Acting Administrator, Animal and Plant Health Inspection Service.

[FR Doc. 2010-21455 Filed 8-26-10: 8:45 am]

BILLING CODE 3410-34-S